DEPARTMENT OF HEALTH AND HUMAN SERVICES

Administration for Children and Families

Proposed Information Collection Activity; Comment Request

Proposed Projects:

Title: Letter of Intent for Indian Tribes, Tribal organizations or Tribal consortia to operate a title IV-E program under the Fostering Connections to Success and Increasing Adoptions Act of 2008 (Pub. L. 110-351).

OMB No.: New Collection.

Description: The Administration for Children and Families is requesting that Indian tribes, tribal organizations or tribal consortia that wish to apply for direct title IV-E funding pursuant to section 479B of the Social Security Act send a letter expressing their intent to facilitate budget and staff planning.

Respondents: Indian Tribes, Tribal organizations and Tribal consortia.

Annual Burden Estimates
Instrument | Number of ­respondents | Number of ­responses per respondent | Average ­burden hours per response | Total burden hours
Letter of Intent | 562 | 1 | 1 | 562

Estimated Total Annual Burden Hours: 562.

In compliance with the requirements of section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: November 13, 2008.
Janean Chambers,
Reports Clearance Officer.

[FR Doc. E8-27358 Filed 11-18-08; 8:45 am]

BILLING CODE 4184-01-P